DEPARTMENT OF THE INTERIOR

National Park Service

[N6656; NPS-WASO-NAGPRA-NPS0041393; PPWOCRADN0-PCU00RP14.R50000]

Notice of Inventory Completion: Western Kentucky University, Bowling Green, KY

AGENCY: National Park Service, Interior.

ACTION: Notice.

SUMMARY: In accordance with the Native American Graves Protection and Repatriation Act (NAGPRA), the Western Kentucky University has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Nikki A. Wilcox, Western Kentucky University, 1906 College Heights Blvd., Bowling Green, KY 42101, nikki.wilcox@wku.edu.

SUPPLEMENTARY INFORMATION: This notice is published as part of the National Park Service's administrative responsibilities under NAGPRA. The determinations in this notice are the sole responsibility of Western Kentucky University, and additional information on the determinations in this notice, including the results of consultation, can be found in its inventory or related records. The National Park Service is not responsible for the determinations in this notice.

Abstract of Information Available

Human remains representing at least one individual have been identified on the campus of Western Kentucky University. No associated funerary objects are present.

One Ancestor was identified in the summer of 2025 by a faculty member of the Department of Society, Culture, Crime, and Justice Studies, on the first floor of a building on campus.

While sorting through a filing cabinet, one human skull was identified in the back of a filing cabinet, tucked behind a row of documents. These documents were various archaeological essays and reports. The remains are described as still having a layer of dirt covering the surface.

There is no further provenience information for this individual, however due to the context information it is more than likely that the Ancestor is from the area. This is further supported by the fact that there was an active archaeologist who used to operate out of the building, and who excavated nearly exclusively within the state of Kentucky.

There is no known exposure to hazardous substances.

Cultural Affiliation

Based on the information available and the results of consultation, cultural affiliation is reasonably identified by the geographical location of the human remains described in this notice.

Determinations

Western Kentucky University has determined that:

• The human remains described in this notice represent the physical remains of one individual of Native American ancestry.

• There is a connection between the human remains described in this notice and the Cherokee Nation; Eastern Band of Cherokee Indians; The Chickasaw Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, Western Kentucky University must determine the most appropriate requestor prior to repatriation. Requests for joint repatriation of the human remains and associated funerary objects are considered a single request and not competing requests. Western Kentucky University is responsible for sending a copy of this notice to the Indian Tribes and Native Hawaiian organizations identified in this notice and any other consulting parties.

Authority: Native American Graves Protection and Repatriation Act, 25 U.S.C. 3003, and the implementing regulations, 43 CFR 10.10.

Dated: November 21, 2025.
Melanie O'Brien,
Manager, National NAGPRA Program.

[FR Doc. 2025-23001 Filed 12-16-25; 8:45 am]

BILLING CODE 4312-52-P